DEPARTMENT OF TRANSPORTATION

Coast Guard

33 CFR Parts 175, 177, 179, 181, and 183

46 CFR Parts 2, 10, 15, 24, 25, 26, 30, 70, 90, 114, 169, 175, 188, and 199

[USCG-1999-5040]

RIN 2115-AF69

Safety of Uninspected Passenger Vessels Under the Passenger Vessel Safety Act of 1993 (PVSA)

AGENCY: Coast Guard, DOT.

ACTION: Final rule; announcement of enforcement date.

SUMMARY: The Coast Guard is announcing the approval of a collection-of-information requirement pertaining to the implementation of safety measures for uninspected passenger vessels over 100 gross tons, which carry 12 or fewer passengers for hire. The implementation allows owners, operators, and/or agents of those type vessels to submit an application for the issuance of a special permit to participate in a Marine Event of National Significance. It also allows the development of specific manning, structural fire protection, operating, and equipment requirements for a limited fleet of PVSA-exempted vessels.

DATES: 46 CFR 26.03-8 as published May 15, 2002 (67 FR 34756), is enforceable as of June 24, 2002.

FOR FURTHER INFORMATION CONTACT: If you have questions on this document, call Michael A. Jendrossek, Office of Operating and Environmental Standards (G-MSO-2), Coast Guard, telephone 202-267-0836. If you have questions on viewing the docket, call Dorothy Beard, Chief, Dockets, Department of Transportation, telephone 202-366-5149.

SUPPLEMENTARY INFORMATION: The final rule published in the Federal Register on May 15, 2002, at 67 FR 34756 was effective on June 14, 2002. This rule amends an existing Office of Management and Budget (OMB) approved collection, OMB Control Number 2115-0133, that expires on April 30, 2003. As required by 44 U.S.C. 3507(d), we submitted a copy of this rule to the OMB for its review of the Collection-of-information. OMB approved the change to this collection effective June 24, 2002, and the collection now expires on June 30, 2005.

Dated: October 17, 2002.
Howard L. Hime,
Acting Director of Standards, Marine Safety, Security & Environmental Protection.

[FR Doc. 02-30618 Filed 12-3-02; 8:45 am]

BILLING CODE 4910-15-P